DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(C)(2)(a)]. This program helps to ensure that requested data can be provided in the desired format, reporting burden (time and financial resources) is minimized, collection instruments are clearly understood, and the impact of collection requirements on respondents can be properly assessed. Currently, the Employment and Training Administration is soliciting comments concerning the proposed extension collection of the Domestic Agricultural In-Season Wage Report, ETA-232 and Wage Survey Interview Record, ETA-232A. A Copy of the proposed information collection request (ICR) can be obtained by contacting the office listed below in the addressee section of this notice.

DATES: Written comments must be submitted to the office listed in the addressee section below on or before November 13, 2000.

ADDRESSES: Grace A. Kilbane, Attention Dale Ziegler, Officer of Workforce Security, Employment Training Administration, U.S. Department of Labor, Room C-4318, 200 Constitution Avenue NW., Washington, DC 20210-0001, 202-693-3010, (this is not a toll-free number), fax: 202-693-2769.

SUPPLEMENTARY INFORMATION:

I. Background

The Wagner-Peyser Act, as amended, provides that the Office of Workforce Security shall assist in coordinating the State public employment services throughout the country and in promoting uniformity in their administrative and statistical procedures, furnishing and publishing information as to opportunities for employment and other information of value in the operation of the system and maintaining a system for clearing labor between the States.

Pursuant to the Wagner Peyser Act, the U.S. Department of Labor has established regulations at 20 CFR 653.500 covering the processing of agricultural intrastate and interstate job orders. Section 653.501 provides that wages offered by employers must not be less than the prevailing wages or the applicable Federal or State minimum wage, whichever is higher. Also the regulations for the temporary employment of alien agricultural and logging workers in the United States, 20 CFR, Part 655, Subparts B and C, the H-2A program, under the Immigration Reform and Control Act of 1986, require farmers and other agricultural employers to pay workers the adverse effect wage rate, the prevailing wage rate, or the legal Federal or State minimum wage rate, whichever is highest.

The prevailing wage rate is used to implement these regulations covering intrastate and interstate recruitment of farmworkers. The vehicle for establishing the prevailing wage rate is Form ETA-232, The Domestic Agricultural In-Season Wage Report, and Form ETA-232A, Wage Survey Interview Record. The ETA-232 report contains the prevailing wage finding based on survey data collected from employers and reported by the State on the ETA-232A.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Activity covered by regulations at 20 CFR 653.500 and 20 CFR 655(B)(C), particularly the H-2A program, continues to expand, further increasing the need for accurate and timely wage information on which to base prevailing agricultural wage determinations. There is no similar age information which is available or can be used for these determinations which apply to a specific crop or livestock activity, in a specific agricultural wage reporting area for a specific period of time during the peak harvest season.

Type of Review: Extension.

Agency: Employment and Training Administration.

Title: Domestic Agricultural In-Season Wage Report, ETA-232 and Wage Survey Interview Record, ETA-232A.

OMB Number: 1205-0017.

Agency Numbers: ETA-232 and ETA-232A.

Affected Public: Business and State Government.

Total Burden Hours: 16,301.

Cite/reference | Total respondents | Frequency | Total responses | Average time per response | Burden hours
ETA-232 | 600 | Annually | 600 | 11 hours | 6,600
ETA-232A | 38,805 | Annually | 38,805 | ¼ hour | 9,701
Total |  |  | 39,405 |  | 16,301

Total Burden Cost (capital/startup): -0-.

Total Burden Cost (operating/maintaining):

Business: The salary range of representatives of business respondents (employees of small family owned farms up through large agribusiness firms) could be from the minimum wage to several hundred thousand dollars of a CEO. Therefore, the hourly salaries of individuals participating in the wage survey can range from about $5.15 to $300.00 or more per hour.

State Government: Average cost to the State agencies conducting the agricultural wage surveys range from $1,500.00 to $6,000.00 per survey, depending upon the complexity of the crop or livestock activity to be surveyed, including considerations such as size of employer and worker universes, and geographic expanse of wage reporting areas.

Comments submitted in response to this comment request will be summarized and/or included in the request for Office of Management and Budget approval of the information collection request; they will also become a matter of public record.

Dated: September 5, 2000.
Grace A. Kilbane,
Administrator, Office of Workforce Security, Employment and Training Administration.

[FR Doc. 00-23235 Filed 9-8-00; 8:45 am]

BILLING CODE 4510-30-M